DEPARTMENT OF AGRICULTURE

Submission for OMB Review; Comments Requested

The Department of Agriculture will submit the following information collection requirement(s) to OMB for review and clearance under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by July 31, 2023. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Reporting and Recordkeeping Requirements for 7 CFR, part 29.

OMB Control Number: 0581-0056.

Summary of Collection: The Fair and Equitable Tobacco Reform Act of 2004 (7 U.S.C. 518) eliminated price supports and marketing quotas for all tobacco beginning with the 2005 crop year. Mandatory inspection and grading of domestic and imported tobacco were eliminated as well as the mandatory pesticide testing of imported tobacco and the tobacco Market News Program. The Tobacco Inspection Act (7 U.S.C. 511) requires that all tobacco sold at designated auction markets in the U.S. be inspected and graded. Provision is also made for interested parties to request inspection, pesticide testing and grading services on an “as needed” basis. The Act also provides for the establishment and maintenance of tobacco standards for U.S. grown types and the collection and dissemination of market news which are funded by appropriated money.

Need and Use of the Information: Information is collected through various forms and other documents for the inspection and certification process. Upon receiving request information from tobacco dealers and/or manufacturers, tobacco inspectors will pull samples and apply U.S. Standard Grades to tobacco samples providing the customer a Tobacco Inspection Certificate (TB-92). Also, samples can be submitted to a USDA laboratory for pesticide testing and a detailed analysis is provided to the customer.

Description of Respondents: Business or other for-profit.

Number of Respondents: 50.

Frequency of Responses: Recordkeeping; Reporting; On occasion.

Total Burden Hours: 3,651.

Agricultural Marketing Service

Title: Discharge and Delivery Survey Summary and Rate Schedule Forms.

OMB Control Number: 0581-0317.

Summary of Collection: The Food for Peace Act (specifically Pub. L. 480 Title II); Section 416(b) of the Agricultural Act of 1949; Food for Progress Act of 1985; 2002 and 2008 Farm Bills authorizing the McGovern-Dole International Food for Education Program; and Commodity Credit Corporation (CCC) Charter Act, all as amended, authorize the International Procurement Division to procure, sell, and transport, as well as sample, inspect and survey, agricultural commodities at both domestic and foreign locations for use in international food aid program. The Kansas City Commodity Office (KCCO) acting under the authority granted by these acts, purchase discharge survey services conducted at the foreign destinations to ensure count and condition of the commodities shipped. Agricultural Marketing Service (AMS) will collect information using forms KC-334, Discharge/Delivery Survey Summary and KC-337, Rate Schedule.

Need and Use of the Information: The information collected on the KC-334 form is a summary of the amount of cargo delivered versus manifested quantity, the amount and type of damage, etc. The KC-337 form is used to obtain rates that the survey companies charge to perform surveys, by country/region. Without the information CCC could not meet program requirements.

Description of Respondents: Business or other for-profit; Not for-profit institutions.

Number of Respondents: 41.

Frequency of Responses: Recordkeeping; Reporting: On occasion; Quarterly; Weekly; Semi-annually; Monthly; Annually.

Total Burden Hours: 234.

Levi S. Harrell,
Departmental Information Collection Clearance Officer.

[FR Doc. 2023-13845 Filed 6-28-23; 8:45 am]

BILLING CODE 3410-02-P